DEPARTMENT OF TRANSPORTATION

National Highway Traffic Safety Administration

[U.S. DOT Docket No. NHTSA-2019-0051]

Agency Information Collection Activities; Submission to the Office of Management and Budget (OMB) for Review and Approval; Request for Comment; Effects of Education on Speeding Behavior

AGENCY: National Highway Traffic Safety Administration (NHTSA), Department of Transportation.

ACTION: Notice and request for comments on a new information collection.

SUMMARY: In compliance with the Paperwork Reduction Act of 1995, this notice announces that the Information Collection Request (ICR) abstracted below will be submitted to the Office of Management and Budget (OMB) for review. The ICR describes the nature of the information collection and its expected burden. A Federal Register notice with a 60-day comment period soliciting public comments on the following information collection was published on August 30, 2019. NHTSA received one comment, from the Insurance Institute of Highway Safety (IIHS), that was critical of the proposed information collection.

DATES: Comments must be received on or before January 13, 2020.

ADDRESSES: Send comments regarding the burden estimate, including suggestions for reducing the burden, to the Office of Information and Regulatory Affairs, Office of Management and Budget, Attention: Desk Officer for NHTSA, 725 17th Street NW, Washington, DC 20503.

FOR FURTHER INFORMATION CONTACT: Kelly Sheppard, Research Psychologist, Office of Behavioral Safety Research (NPD-320), National Highway Traffic Safety Administration, Department of Transportation, 1200 New Jersey Avenue SE, W46-499, Washington, DC 20590. Dr. Sheppard's phone number is 202-366-6401, and her email address is kelly.sheppard@dot.gov.

SUPPLEMENTARY INFORMATION: Before a Federal agency can collect certain information from the public, it must receive approval from the Office of Management and Budget (OMB). In compliance with these requirements, this notice announces that the following information collection request has been forwarded to OMB.

A Federal Register notice with a 60-day comment period soliciting public comments on the following information collection was published on August 30, 2019.¹ NHTSA received one comment, from the Insurance Institute of Highway Safety (IIHS), that was critical of the proposed information collection. IIHS stated that stand-alone education programs have not been found to be effective at addressing driver behaviors like speeding and that pursuing an education program is not an effective use of the agency's resources. They cited NHTSA's Speed Management Program Plan as having other activities with more promise for reducing speeding.² They also indicated that NHTSA's Countermeasures that Work report promotes communications in support of enforcement but not education alone.³ They stated their view that incentives for intelligent speed adaptation outlined in the National Transportation Safety Board's (NTSB) Reducing Speeding-Related Crashes Involving Passenger Vehicles safety report was a more effective use of resources.⁴

¹ 84 FR 45827.

² National Highway Traffic Safety Administration, Federal Highway Administration, & Federal Motor Carrier Safety Administration. (2014, May). Speed management program plan (Report No. DOT HS 812 028). Washington, DC: National Highway Traffic Safety Administration. Available at http://www.nhtsa.gov/sites/nhtsa.dot.gov/files/812028-speedmgtprogram.pdf.

³ Richard, C.M., Magee, K., Bacon-Abdelmoteleb, P., & Brown, J. L. (2018, April). Countermeasures that work: A highway safety countermeasure guide for State Highway Safety Offices, Ninth edition (Report No. DOT HS 812 478). Washington, DC: National Highway Traffic Safety Administration. Available at https://rosap.ntl.bts.gov/view/dot/36719.

⁴ National Transportation Safety Board. (2017, July). Reducing Speeding-Related Crashes Involving Passenger Vehicles (Safety Study NTSB/SS-17/01). Washington, DC: National Transportation Safety Board. Available at https://www.ntsb.gov/safety/safety-studies/Documents/SS1701.pdf.

We appreciate the comments from IIHS and thank them for thoughtfully considering the described collection. We agree with IIHS that stand-alone education programs that are not part of a larger comprehensive approach tend to have limited effects. However, as IIHS points out, NHTSA has a Speed Management Program Plan that includes an education component as well as a variety of other strategies. The program associated with this collection is one potential education program that could be part of a larger speeding management strategy that includes many of the additional elements IIHS describes. NHTSA's Countermeasures that Work indicates that communications and outreach supporting speeding enforcement is a promising strategy (p. 3-31), and NTSB's Reducing Speeding-Related Crashes Involving Passenger Vehicles concluded that “traffic safety campaigns that include highly publicized, increased enforcement can be an effective speeding countermeasure” (p. 55). Additionally, NTSB recommended that NHTSA “collaborate with other traffic safety stakeholders to develop and implement an ongoing program to increase public awareness of speeding as a national traffic safety issue” (p. 57).

A 2011 meta-analysis by Phillips, Ulleberg, and Ross found that traffic safety public information and education campaigns reduced crashes by 9% on average but that campaigns focused on speeding did not indicate a statistically significant reduction.⁵ Many of the education programs described by IIHS and included in the meta-analysis above are public awareness campaigns where messages are delivered through mass media or at the roadside. These education programs are not focused on drivers who speed but rather on all drivers. These broad education programs may appear less effective, especially on their own, because many drivers who receive the messages do not tend to speed. Education focused on people who have already received a speeding citation, such as proposed in this collection, could produce larger effects because they are designed to address the specific issues found with speeding drivers. Furthermore, NHTSA's Countermeasures that Work chapter on Speeding and Speed Management recommends more comprehensive strategies for drivers already cited for speeding or repeat offenders and mentions several programs that included interventions specifically designed to teach drivers about attitudes, skills, and knowledge related to speeding and personality traits associated with the behavior. These programs showed promise in reducing speeding among drivers who had received citations (p. 3-10). Therefore, education specifically for drivers who speed as well as more broad education to promote public awareness of the dangers of speeding are part of comprehensive programming referenced throughout NHTSA's Countermeasures that Work and Speed Management Program Plan.

⁵ Phillips, R.O., Ulleberg, P., & Vaa, T. (2011). Meta-analysis of the effect of road safety campaigns on accidents. Accident Analysis & Prevention, 43, 1204-1218.

The proposed speeding education program has two main elements that make it scientifically strong and likely to contribute to our ability to develop an effective program. The first element is that it will target individuals with a speeding citation instead of being broadly presented to all drivers. This step ensures that the audience who stands to benefit most from the education will receive it and that the content aligns with promising programs discussed in Countermeasures that Work. The second element is that naturalistic and objective data will be collected to determine if the program had an effect. Instead of relying on self-report, which IIHS rightly indicates can be biased, the proposed data collection will use instrumentation in the vehicle to evaluate speeding while the participants drive as they normally would both before and after the educational course. This step will ensure that conclusions drawn about the effect of the program will be based on objective driving data and not on reports of how people believe they drove or will drive in the future. By undertaking this collection, NHTSA will take steps towards an evidence-based education program that can be included in comprehensive speed management plans and contribute to reducing speeding-related injuries and fatalities.

Title: Effects of Education on Speeding Behavior.

OMB Clearance Number: New.

Type of Review: Regular.

Form No.: NHTSA Form 1492, NHTSA Form 1493, NHTSA Form 1494, NHTSA Form 1495, NHTSA Form 1496, and NHTSA Form 1497.

Type of Information Collection Request: Approval of a new information collection.

Requested Expiration Date of Approval: 3 years from date of approval.

Abstract: The National Highway Traffic Safety Administration (NHTSA) of the U.S. Department of Transportation is seeking approval to collect information from licensed drivers who have at least one speeding citation or conviction in the previous three years for a one-time voluntary study of the effects of an education course being developed that covers vehicle speeds, laws, and the risks of speeding on speeding behavior. NHTSA proposes to approach up to 250 drivers appearing at the Wake County, NC district court because of speeding infractions to ascertain their interest in participating in the study after their case has been adjudicated. Of those 250, we expect to collect information from 150 potential participants determine their eligibility for the study with the goal of recruiting 100 voluntary participants. The 100 participants will complete an informed consent form, three driver speeding questionnaires (before the course, right after the course, and one month after the course) to explore the effects of the course on their attitudes and beliefs regarding speeding as well as their tendency to speed, a course evaluation, and sensation-seeking questionnaire to measure psychological factors related to risky behaviors. In addition, NHTSA will collect naturalistic driving data, which involves unobtrusive observation of driving in a natural, on-road setting using a vehicle instrumented with position, speed, and other sensors. This collection is solely reporting, and there are no record-keeping costs to the respondents. NHTSA will use the information to produce a technical report that presents the results of the study. The technical report will provide aggregate (summary) statistics and tables as well as the results of statistical analysis of the information, but it will not include any personal information. The technical report will be shared with State highway offices, local governments, and those who develop driver education and traffic safety communications that aim to reduce speed-related crashes. The total estimated burden for recruiting 250 participants (42 hours), for screening 150 participants (23 hours) and for 100 participants to complete the study (600 hours) is 665 total hours.

Respondents: Participation in this study will be voluntary, and 100 participants will be recruited from drivers that attend the Wake County, NC district court because of speeding infractions after their case has been adjudicated. An estimated 250 people will be approached and have the study described to them, and 150 people will be screened to recruit the 100 who will complete the study. Participants will be licensed drivers over 18 years old who have had a speeding citation in the past 3 years.

Estimated Time per Participant: The estimated time for recruiting 250 possible participants is 10 minutes per person. The estimated time for screening the 150 possible participants is nine minutes per person to complete the screener questionnaire and provide contact information. The estimated time for the 100 study participants is six hours per person to complete the informed consent, take the three-hour and 30-minute course, complete all questionnaires, and wait for equipment to be installed and uninstalled from their vehicles.

Total Estimated Burden Hours: The total estimated annual burden is 665 hours for the project activities. Participation in this study is voluntary, and there are no costs to respondents beyond the time spent completing the questionnaires and visits to the study facility.

Frequency of Collection: This study is one-time data collection, and there will be no recurrence.

Description of the Need for the Information and Proposed Use of the Information: NHTSA was established to reduce deaths, injuries, and economic losses resulting from motor vehicle crashes on the Nation's highways. As part of this statutory mandate, NHTSA is authorized to conduct research for the development of traffic safety programs. In 2018, there were 9,378 fatalities in speeding-related crashes—26% of all traffic deaths. Public information and education are important elements of any effective speed management program. Recent NHTSA research has indicated that many drivers feel they lack sufficient knowledge about speeding and would like more information on stopping distances, laws, and risks involved. This project is designed to examine the effectiveness of education covering speed, laws, and risks of speeding in changing driver attitudes and behaviors regarding speeding. This information will be useful to State highway offices, local governments, and those who develop driver education and training that aim to reduce speed-related crashes.

Public Comments Invited: You are asked to comment on any aspect of this information collection, including (a) whether the proposed collection of information is necessary for the Department's performance; (b) the accuracy of the estimated burden; (c) ways for the department to enhance the quality, utility and clarity of the information collection; and (d) ways that the burden could be minimized without reducing the quality of the collected information.

Authority: The Paperwork Reduction Act of 1995; 44 U.S.C. chapter 35, as amended; 49 CFR 1.49; and DOT Order 1351.29.

Issued in Washington, DC.
Jon Krohmer,
Associate Administrator, Acting, Research and Program Development.

[FR Doc. 2019-26823 Filed 12-12-19; 8:45 am]

BILLING CODE 4910-59-P